DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed revision Applications to Employ Special Industrial Homeworkers and Workers with Disabilities (WH-2, 226, and 226A).

DATES: Written comments must be submitted to the office listed in the addressee section no later than August 27, 2001.

ADDRESSES: Ms. Patricia A. Forkel, U.S. Department of Labor, 200 Constitution Ave., NW, Room S-3201, Washington, DC 20210, telephone (202) 693-0339 (this is not a toll-free number), fax (202) 693-1451.

SUPPLEMENTARY INFORMATION

I. Background

Section 11(d) of the Fair Labor Standards Act (FLSA) authorizes the Secretary of Labor to regulate, restrict, or prohibit industrial homework as necessary to prevent evasion of the minimum wage requirements of the Act. The Department of Labor has restricted homework in seven industries to those employees who obtain certificates. Individual certificates may be issued to any industry for an individual homeworker who is unable to leave home because of a disability or must remain home to care for an invalid. Section 14c of the FLSA provides for the employment of workers with disabilities at subminimum wages in order to prevent curtailment of employment opportunities for such individuals. Employers utilizing the provisions of section 14c must obtain certificates issued by the Department of Labor. The WH-2 is used by employers to obtain certificates to employ individual homeworkers in one of the restricted homework industries. The WH-226 and supplemental data Form 226A are used by employers to obtain authorization to employ workers with disabilities in certain establishments at subminimum wages.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor, as a result of recommendations made by the agency FLSA Section 14(c) Working Group and the U.S. Government Accounting Office (GAO), has revised Forms WH-226 and WH-226A. Form WH-2 remains unchanged. The WH-226 and WH-226A have been streamlined and simplified to facilitate the application process. Definitions have been provided and the instructions for completing each form have been expanded and clarified. Applicants are requested to provide two new pieces of information, but these requests do not increase the burden on the public. We are requesting that the applicant provide its Federal Identification Number (EIN) and the number of its previous certificate. Both pieces of information are readily available to the applicant and both pieces will be preprinted on the renewal package sent to each employer. These changes, considered along with the streamlining of the form, added definitions and clarified instructions, do not require any adjustment in current burden estimated for completion of these forms.

Type of Review: Revision.

Agency: Employment Standards Administration.

Title: Application for Special Industrial Homeworker's Certificate (WH-2); Application for Authority to Employ Workers with Disabilities at Special Minimum Wages (WH-226); Supplemental Data Sheet for Application for Authority to Employ Workers with Disabilities at Special Minimum Wages (WH-226A).

OMB Number: 1215-0005.

Agency Numbers: WH-2, WH-226, WH-226A. Affected Public: Individuals or households; Business or other for-profit; Farms; Not-for-profit institutions; State, Local, or Tribal Government.

Frequency: Annually.

Form | Number of respondents | Number of responses | Time per response (in min.) | Burden hours
WH-2 | 50 | 50 | 30 | 25
WH-226 | 4,500 | 4,500 | 45 | 3,375
WH-226A | 4,500 | 12,000 | 45 | 9,000

Total Respondents: 4,550.

Total Responses: 16,550.

Total Hours: 12,400.

Total Burden Cost (capital/startup): $0.

Total Burden Cost: (operating/maintenance): $1,683.

Comments submitted in response to this notice will be summarized and/or included in the request for Office of Management and Budget approval of the information collection request; they will also become a matter of public record.

Dated: June 18, 2001.
Margaret J. Sherrill,
Chief, Branch of Management Review and Internal Control, Division of Financial Management, Office of Management, Administration and Planning, Employment Standards Administration.

[FR Doc. 01-16149 Filed 6-26-01; 8:45 am]

BILLING CODE 4510-27-P